COMMITTEE FOR PURCHASE FROM PEOPLE WHO ARE BLIND OR SEVERELY DISABLED

Procurement List Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products and services previously furnished by such agencies.

EFFECTIVE DATE: June 9, 2002.

ADDRESS: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On October 5, 2001, March 8, and March 15, 2002, the Committee for Purchase From People Who Are Blind or Severely Disabled published notice (66 F.R. 51005, 67 FR 10663, 10664, and 11661) of proposed additions to the Procurement List.

The following comments pertain to the Janitorial/Custodial Service, Ronald Reagan Building at the Federal Tenant Spaces only, Washington, DC.

Comments were received from a subcontractor to the current contractor for this service. The subcontractor claimed that addition of this service to the Procurement List would have a severe adverse impact on the company. The subcontractor also questioned whether the addition met Committee regulatory requirements concerning creation of employment opportunities and qualification of the designated nonprofit agency to participate in the Committee's program. The Committee's regulation, at 41 CFR 51-2.4(a)(4), requires the Committee to assess impact of a Procurement List addition on the current contractor. This requirement exists because the current contractor is usually the most likely organization to win a competition for the next contract for the service in question, if it is not added to the Procurement List. Whether a subcontractor will continue to hold a subcontract for a service is at the discretion of the contractor, not the competitive procurement process or the Government contracting activity. Accordingly, the Committee does not consider impact on a subcontractor to constitute the severe adverse impact on the current contractor which the Committee's regulation requires the Committee to avoid in making its Procurement List addition decisions.

The subcontractor's contentions concerning the nonprofit agency's capability and program qualification are based on the subcontractor's beliefs that the people to be employed are not capable of safely operating machinery or otherwise performing some of the tasks involved in providing this janitorial service, and that security requirements will require the nonprofit agency to permanently retain people without disabilities who currently hold security clearances to work in the building. This service does not have specialized equipment or performance requirements unlike other janitorial services performed by this nonprofit agency. The Committee's determination that the nonprofit agency is capable of performing this service was based on an assessment by an industrial engineer who is familiar with the capabilities of the nonprofit agency and the Government customer. The Committee has approved a phase-in of the people with severe disabilities who will perform the service. One reason for the phase-in is to allow time for security clearances to be granted. Current employees with security clearances will be retained only as long as they are needed to meet the Government's requirements.

The following material pertains to all of the items being added to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will not have a severe economic impact on current contractors for the products and services.

3. The action will result in authorizing small entities to furnish the products and services to the Government.

4. There are no known regulatory alternatives which would accomplish the objectives of the Javits-Wagner-O'Day Act (41 U.S.C.46-48c) in connection with the products and services proposed for addition to the Procurement List.

Accordingly, the following products and services are added to the Procurement List:

Products

Product/NSN: Holder, Key and Credit Card/7510-01-445-9348

NPA: The Travis Association for the Blind, Austin, TX

Contract Activity: Office Supplies & Paper Products Commodity Center, New York, NY

Product/NSN: Holder, Key and Credit Card, with Custom Logo/7510-01-NIB-0613

NPA: The Travis Association for the Blind, Austin, TX

Contract Activity: Office Supplies & Paper Products Commodity Center, New York, NY

Services

Service Type/Location: Janitorial/Custodial/Alton Federal Building, Alton, IL

NPA: Challenge Unlimited, Inc., Alton, IL

Contract Activity: GSA, Public Buildings Service

Service Type/Location: Janitorial/Custodial/Ronald Reagan Building at the Federal Tenant Spaces only, Washington, DC

NPA: The Chimes, Inc., Baltimore, MD

Contract Activity: GSA, Public Buildings Service

Service Type/Location: Janitorial/Grounds Maintenance/Ed Jones Federal Building & U.S. Courthouse, Jackson, TN

NPA: Madison Haywood Developmental Services, Jackson, TN

Contract Activity: GSA, Public Buildings Service

Service Type/Location: Janitorial/Grounds Maintenance/Federal Building & U.S. Post Office, Dyersburg, TN

NPA: Madison Haywood Developmental Services, Jackson, TN

Contract Activity: GSA, Public Buildings Service

Service Type/Location: Mailroom/Communications Center Operation/U.S. Department of Agriculture, Kansas City, MO

NPA: Independence & Blue Springs Industries, Inc., Independence, MO

Contract Activity: Department of Agriculture

Service Type/Location: Shipboard & Shore-Based Logistics/CONUS Facilities for the Navy and Various other DOD Military Installations (20% of the Government's Requirement)

NPA: The Arc of the Virginia Peninsula, Inc., Hampton, VA

Contract Activity: Training & Doctrine Command (TRADOC) Acquisition Center

Service Type/Location: Switchboard Operation/Tennessee Valley Healthcare System, Murfreesboro, TN

NPA: Prospect Inc., Lebanon, TN

Contract Activity: Department of Veterans Affairs

Deletions

I certify that the following action will not have a significant impact on a substantial number of small entities. The major factors considered for this certification were:

1. The action will not result in any additional reporting, recordkeeping or other compliance requirements for small entities.

3. The action will result in authorizing small entities to furnish the products and service to Government.

4. There are no known regulatory alternatives which would accomplish the objectives of the Javits-Wagner-O'Day Act (41 U.S.C. 46-48c) in connection with the products and services deleted from the Procurement List.

After consideration of the relevant matter presented, the committee has determined that the products and service listed below are no longer suitable for procurement by the Federal Government under 41 U.S.C. 46-48c and 41 CFR 51-2.4.

Accordingly, the following products and service are hereby deleted from the Procurement List:

Products

Product/NSN: Hood, Sleeping Bag/8465-00-518-2769

NPA: North Bay Rehabilitation Services, Inc., Rohnert Park, CA

Contract Activity: Defense Supply Center—Philadelphia, Philadelphia, PA

Product/NSN: Stamp, Rubber/7520-00-NSH-0001

NPA: PRIDE Industries, Roseville, CA

Contract Activity: McClellan AFB

Product/NSN: Stamp, Rubber/7520-00-NSH-0002

NPA: PRIDE Industries, Roseville, CA

Contract Activity: McClellan AFB

Product/NSN: Stamp, Rubber/7520-00-NSH-0003

NPA: PRIDE Industries, Roseville, CA

Contract Activity: McClellan AFB

Product/NSN: Stamp, Rubber/7520-00-NSH-0004

NPA: PRIDE Industries, Roseville, CA

Contract Activity: McClellan AFB

Product/NSN: Stamp, Rubber/7520-00-NSH-0005

NPA: PRIDE Industries, Roseville, CA

Contract Activity: McClellan AFB

Product/NSN: Stamp, Rubber/7520-00-NSH-0006

NPA: PRIDE Industries, Roseville, CA

Contract Activity: McClellan AFB

Product/NSN: Stamp, Rubber/7520-00-NSH-0007

NPA: PRIDE Industries, Roseville, CA

Contract Activity: McClellan AFB

Product/NSN: Stamp, Rubber/7520-00-NSH-0008

NPA: PRIDE Industries, Roseville, CA

Contract Activity: McClellan AFB

Product/NSN: Stamp, Rubber/7520-00-NSH-0009

NPA: PRIDE Industries, Roseville, CA

Contract Activity: McClellan AFB

Product/NSN: Stamp, Rubber/7520-00-NSH-0010

NPA: PRIDE Industries, Roseville, CA

Contract Activity: McClellan AFB

Product/NSN: Stamp, Rubber/7520-00-NSH-0011

NPA: PRIDE Industries, Roseville, CA

Contract Activity: McClellan AFB

Product/NSN: Stamp, Rubber/7520-00-NSH-0012

NPA: PRIDE Industries, Roseville, CA

Contract Activity: McClellan AFB

Product/NSN: Stamp, Rubber/7520-00-NSH-0013

NPA: PRIDE Industries, Roseville, CA

Contract Activity: McClellan AFB

Product/NSN: Stamp, Rubber/7520-00-NSH-0014

NPA: PRIDE Industries, Roseville, CA

Contract Activity: McClellan AFB

Product/NSN: Stamp, Rubber/7520-00-NSH-0015

NPA: PRIDE Industries, Roseville, CA

Contract Activity: McClellan AFB

Product/NSN: Stamp, Rubber/7520-00-NSH-0016

NPA: PRIDE Industries, Roseville, CA

Contract Activity: McClellan AFB

Product/NSN: Stamp, Rubber/7520-00-NSH-0017

NPA: PRIDE Industries, Roseville, CA

Contract Activity: McClellan AFB

Product/NSN: Stamp, Rubber/7520-00-NSH-0018

NPA: PRIDE Industries, Roseville, CA

Contract Activity: McClellan AFB

Product/NSN: Stamp, Rubber/7520-00-NSH-0019

NPA: PRIDE Industries, Roseville, CA

Contract Activity: McClellan AFB

Product/NSN: Stamp, Rubber/7520-00-NSH-0020

NPA: PRIDE Industries, Roseville, CA

Contract Activity: McClellan AFB

Product/NSN: Stamp, Rubber/7520-00-NSH-0021

NPA: PRIDE Industries, Roseville, CA

Contract Activity: McClellan AFB

Product/NSN: Stamp, Rubber/7520-00-NSH-0022

NPA: PRIDE Industries, Roseville, CA

Contract Activity: McClellan AFB

Product/NSN: Stamp, Rubber/7520-00-NSH-0023

NPA: PRIDE Industries, Roseville, CA

Contract Activity: McClellan AFB

Product/NSN: Stamp, Rubber/7520-00-NSH-0024

NPA: PRIDE Industries, Roseville, CA

Contract Activity: McClellan AFB

Product/NSN: Stamp, Rubber/7520-00-NSH-0025

NPA: PRIDE Industries, Roseville, CA

Contract Activity: McClellan AFB

Product/NSN: Stamp, Rubber/7520-00-NSH-0026

NPA: PRIDE Industries, Roseville, CA

Contract Activity: McClellan AFB

Product/NSN: Stamp, Rubber/7520-00-NSH-0027

NPA: PRIDE Industries, Roseville, CA

Contract Activity: McClellan AFB

Product/NSN: Stamp, Rubber/7520-00-NSH-0028

NPA: PRIDE Industries, Roseville, CA

Contract Activity: McClellan AFB

Product/NSN: Stamp, Rubber/7520-00-NSH-0029

NPA: PRIDE Industries, Roseville, CA

Contract Activity: McClellan AFB

Product/NSN: Stamp, Rubber/7520-00-NSH-0030

NPA: PRIDE Industries, Roseville, CA

Contract Activity: McClellan AFB

Product/NSN: Stamp, Rubber/7520-00-NSH-0031

NPA: PRIDE Industries, Roseville, CA

Contract Activity: McClellan AFB

Product/NSN: Stamp, Rubber/7520-00-NSH-0032

NPA: PRIDE Industries, Roseville, CA

Contract Activity: McClellan AFB

Product/NSN: Stamp, Rubber/7520-00-NSH-0033

NPA: PRIDE Industries, Roseville, CA

Contract Activity: McClellan AFB

Product/NSN: Stamp, Rubber/7520-00-NSH-0034

NPA: PRIDE Industries, Roseville, CA

Contract Activity: McClellan AFB

Product/NSN: Stamp, Rubber/7520-00-NSH-0035

NPA: PRIDE Industries, Roseville, CA

Contract Activity: McClellan AFB

Product/NSN: Stamp, Rubber/7520-00-NSH-0036

NPA: PRIDE Industries, Roseville, CA

Contract Activity: McClellan AFB

Product/NSN: Stamp, Rubber/7520-00-NSH-0037

NPA: PRIDE Industries, Roseville, CA

Contract Activity: McClellan AFB

Product/NSN: Stamp, Rubber/7520-00-NSH-0038

NPA: PRIDE Industries, Roseville, CA

Contract Activity: McClellan AFB

Product/NSN: Stamp, Rubber/7520-00-NSH-0045

NPA: PRIDE Industries, Roseville, CA

Contract Activity: Travis AFB, CA

Product/NSN: Stamp, Rubber/7520-00-NSH-0046

NPA: PRIDE Industries, Roseville, CA

Contract Activity: Travis AFB, CA

Product/NSN: Stamp, Rubber/7520-00-NSH-0047

NPA: PRIDE Industries, Roseville, CA

Contract Activity: Travis AFB, CA

Product/NSN: Stamp, Rubber/7520-00-NSH-0048

NPA: PRIDE Industries, Roseville, CA

Contract Activity: Travis AFB, CA

Product/NSN: Stamp, Rubber/7520-00-NSH-0049

NPA: PRIDE Industries, Roseville, CA

Contract Activity: Travis AFB, CA

Product/NSN: Stamp, Rubber/7520-00-NSH-0050

NPA: PRIDE Industries, Roseville, CA

Contract Activity: Travis AFB, CA

Product/NSN: Stamp, Rubber/7520-00-NSH-0051

NPA: PRIDE Industries, Roseville, CA

Contract Activity: Travis AFB, CA

Product/NSN: Stamp, Rubber/7520-00-NSH-0052

NPA: PRIDE Industries, Roseville, CA

Contract Activity: Travis AFB, CA

Product/NSN: Stamp, Rubber/7520-00-NSH-0053

NPA: PRIDE Industries, Roseville, CA

Contract Activity: Travis AFB, CA

Product/NSN: Stamp, Rubber/7520-00-NSH-0054

NPA: PRIDE Industries, Roseville, CA

Contract Activity: Travis AFB, CA

Product/NSN: Stamp, Rubber/7520-00-NSH-0055

NPA: PRIDE Industries, Roseville, CA

Contract Activity: Travis AFB, CA

Product/NSN: Stamp, Rubber/7520-00-NSH-0056

NPA: PRIDE Industries, Roseville, CA

Contract Activity: Travis AFB, CA

Product/NSN: Stamp, Rubber/7520-00-NSH-0057

NPA: PRIDE Industries, Roseville, CA

Contract Activity: Travis AFB, CA

Product/NSN: Stamp, Rubber/7520-00-NSH-0058

NPA: PRIDE Industries, Roseville, CA

Contract Activity: Travis AFB, CA

Product/NSN: Stamp, Rubber/7520-00-NSH-0059

NPA: PRIDE Industries, Roseville, CA

Contract Activity: Travis AFB, CA

Product/NSN: Stamp, Rubber/7520-00-NSH-0060

NPA: PRIDE Industries, Roseville, CA

Contract Activity: Travis AFB, CA

Product/NSN: Stamp, Rubber/7520-00-NSH-0061

NPA: PRIDE Industries, Roseville, CA

Contract Activity: Travis AFB, CA

Product/NSN: Stamp, Rubber/7520-00-NSH-0062

NPA: PRIDE Industries, Roseville, CA

Contract Activity: Travis AFB, CA

Product/NSN: Stamp, Rubber/7520-00-NSH-0063

NPA: PRIDE Industries, Roseville, CA

Contract Activity: Travis AFB, CA

Product/NSN: Stamp, Rubber/7520-00-NSH-0064

NPA: PRIDE Industries, Roseville, CA

Contract Activity: Travis AFB, CA

Product/NSN: Stamp, Rubber/7520-00-NSH-0065

NPA: PRIDE Industries, Roseville, CA

Contract Activity: Travis AFB, CA

Product/NSN: Stamp, Rubber/7520-00-NSH-0066

NPA: PRIDE Industries, Roseville, CA

Contract Activity: Travis AFB, CA

Product/NSN: Stamp, Rubber/7520-00-NSH-0067

NPA: PRIDE Industries, Roseville, CA

Contract Activity: Travis AFB, CA

Product/NSN: Stamp, Rubber/7520-00-NSH-0068

NPA: PRIDE Industries, Roseville, CA

Contract Activity: Travis AFB, CA

Product/NSN: Stamp, Rubber/7520-00-NSH-0069

NPA: PRIDE Industries, Roseville, CA

Contract Activity: Travis AFB, CA

Product/NSN: Stamp, Rubber/7520-00-NSH-0070

NPA: PRIDE Industries, Roseville, CA

Contract Activity: Travis AFB, CA

Product/NSN: Stamp, Rubber/7520-00-NSH-0071

NPA: PRIDE Industries, Roseville, CA

Contract Activity: Travis AFB, CA

Product/NSN: Stamp, Rubber/7520-00-NSH-0072

NPA: PRIDE Industries, Roseville, CA

Contract Activity: Travis AFB, CA

Product/NSN: Stamp, Rubber/7520-00-NSH-0073

NPA: PRIDE Industries, Roseville, CA

Contract Activity: Travis AFB, CA

Product/NSN: Stamp, Rubber/7520-00-NSH-0074

NPA: PRIDE Industries, Roseville, CA

Contract Activity: Travis AFB, CA

Product/NSN: Stamp, Rubber/7520-00-NSH-0075

NPA: PRIDE Industries, Roseville, CA

Contract Activity: Travis AFB, CA

Product/NSN: Stamp, Rubber/7520-00-NSH-0076

NPA: PRIDE Industries, Roseville, CA

Contract Activity: Travis AFB, CA

Product/NSN: Stamp, Rubber/7520-00-NSH-0077

NPA: PRIDE Industries, Roseville, CA

Contract Activity: Travis AFB, CA

Product/NSN: Stamp, Rubber/7520-00-NSH-0078

NPA: PRIDE Industries, Roseville, CA

Contract Activity: Travis AFB, CA

Product/NSN: Stamp, Rubber/7520-00-NSH-0079

NPA: PRIDE Industries, Roseville, CA

Contract Activity: Travis AFB, CA

Product/NSN: Stamp, Rubber/7520-00-NSH-0080

NPA: PRIDE Industries, Roseville, CA

Contract Activity: Travis AFB, CA

Product/NSN: Stamp, Rubber/7520-00-NSH-0081

NPA: PRIDE Industries, Roseville, CA

Contract Activity: Travis AFB, CA

Product/NSN: Stamp, Rubber/7520-00-NSH-0082

NPA: PRIDE Industries, Roseville, CA

Contract Activity: Travis AFB, CA

Service

Service Type/Location: Vehicle Operation and Maintenance/Travis AFB, CA

NPA: PRIDE Industries, Roseville, CA

Contract Activity: Department of the Air Force

Sheryl D. Kennerly,
Director, Information Management.

[FR Doc. 02-11752 Filed 5-9-02; 8:45 am]

BILLING CODE 6353-01-P